DEPARTMENT OF HOMELAND SECURITY

Coast Guard

[Docket Number USCG-2019-0946]

Application for Recertification of Prince William Sound Regional Citizens' Advisory Council

AGENCY: Coast Guard, DHS.

ACTION: Notice; request for comments.

SUMMARY: The Coast Guard announces the availability of, and seeks comments on, the recertification of the Prince William Sound Regional Citizen's Advisory Council (PWSRCAC) for March 2, 2020 through February 28, 2021. Under the Oil Pollution Act of 1990 (OPA 90), the Coast Guard may certify the PWSRCAC on an annual basis. This advisory group monitors the activities of terminal facilities and crude oil tankers under the Prince William Sound program established by the statute. The Coast Guard may certify an alternative voluntary advisory group in lieu of the PWSRCAC. The current certification for the PWSRCAC will expire March 1, 2020.

DATES: Public comments on PWSRCAC's recertification application must reach the Seventeenth Coast Guard District on or before February 10, 2020.

ADDRESSES: You may submit comments identified by docket number USCG-2019-0946 using the Federal eRulemaking Portal at http://www.regulations.gov. See the “Public Participation and Request for Comments” portion of the SUPPLEMENTARY INFORMATION section for further instructions on submitting comments.

FOR FURTHER INFORMATION CONTACT: If you have questions on this recertification, call or email LT Ian McPhillips, Seventeenth Coast Guard District (dpi); telephone (907) 463-2809; email Ian.P.McPhillips@uscg.mil. If you have questions on viewing or submitting material to the docket, contact the U. S. Coast Guard Headquarters, Regulations and Administrative Law office, telephone (202) 372-3862.

SUPPLEMENTARY INFORMATION:

I. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notice as being available in the docket, and all public comments, will be in our online docket at http://www.regulations.gov and can be viewed by following that website's instructions. Additionally, if you go to the online docket and sign up for email alerts, you will be notified when comments are posted or a final rule is published.

II. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

III. Public Meeting

The Coast Guard does not plan to hold a public meeting. But you may submit a request for one on or before February 10, 2020 using the method specified under ADDRESSES. Please explain why you believe a public meeting would be beneficial. If we determine that one would aid the process of thoroughly considering the application for recertification, we will hold one at a time and place announced by a later notice in the Federal Register.

IV. Background and Purpose

The Coast Guard published guidelines on December 31, 1992 (57 FR 62600), to assist groups seeking recertification under the Oil Terminal and Oil Tanker Environmental Oversight and Monitoring Act of 1990 (33 U.S.C. 2732) (the Act). The Coast Guard issued a policy statement on July 7, 1993 (58 FR 36504), to clarify the factors that the Coast Guard would be considering in making its determination as to whether advisory groups should be certified in accordance with the Act, and the procedures which the Coast Guard would follow in meeting its certification responsibilities under the Act. Most recently, on September 16, 2002 (67 FR 58440), the Coast Guard changed its policy on recertification procedures for regional citizen's advisory council by requiring applicants to provide comprehensive information every three years. For the two years in between, applicants only submit information describing substantive changes to the information provided at the last triennial recertification. This is the year in this triennial cycle that PWSRCAC must provide comprehensive information.

The Coast Guard is accepting comments concerning the recertification of PWSRCAC. At the conclusion of the comment period on February 10, 2020, the Coast Guard will review all application materials and comments received and will take one of the following actions:

(a) Recertify the advisory group under 33 U.S.C. 2732(o);

(b) Issue a conditional recertification for a period of 90 days, with a statement of any discrepancies, which must be corrected to qualify for recertification for the remainder of the year; or

(c) Deny recertification of the advisory group if the Coast Guard finds that the group is not broadly representative of the interests and communities in the area or is not adequately fostering the goals and purposes of 33 U.S.C. 2732.

The Coast Guard will notify PWSRCAC by letter of the action taken on its application. A notice will be published in the Federal Register to advise the public of the Coast Guard's determination.

Dated: December 18, 2019.
Melissa L. Rivera,
Captain, U.S. Coast Guard, Acting Commander, Seventeenth Coast Guard District.

[FR Doc. 2019-27772 Filed 12-23-19; 8:45 am]

BILLING CODE 9110-04-P